DEPARTMENT OF COMMERCE

International Trade Administration

[C-570-923]

Raw Flexible Magnets From the People's Republic of China: Notice of Rescission of Countervailing Duty New Shipper Review

AGENCY: Import Administration, International Trade Administration, Department of Commerce.

EFFECTIVE DATE: August 27, 2010.

SUMMARY: In response to a request from Jingzhou Meihou Flexible Magnet Company, Ltd. (Jingzhou Meihou), the Department of Commerce (the Department) initiated a new shipper review of the countervailing duty (CVD) order on raw flexible magnets from the People's Republic of China (PRC) covering the period January 1, 2009, through February 28, 2010.

The Department has determined that Jingzhou Meihou is not eligible for a CVD new shipper review because of its affiliation with an exporter of subject merchandise to the United States during the CVD period of investigation (POI). As such, we are rescinding this CVD new shipper review with respect to Jingzhou Meihou.

FOR FURTHER INFORMATION CONTACT: Kristen Johnson, Antidumping and Countervailing Duty Operations, Office 3, Import Administration, International Trade Administration, U.S. Department of Commerce, 14th Street and Constitution Avenue, NW, Room 4014, Washington, DC 20230, telephone: (202) 482-4793.

SUPPLEMENTARY INFORMATION:

Background

The CVD order on raw flexible magnets from the PRC was published on September 17, 2008. See Raw Flexible Magnets From the People's Republic of China: Countervailing Duty Order, 73 FR 53849 (September 17, 2008). On March 29, 2010, pursuant to section 751(a)(2)(B)(i) of the Tariff Act of 1930, as amended (the Act), and 19 CFR 351.214(c), the Department received a timely request for a new shipper review from Jingzhou Meihou. On April 22, 2010, the Department found that the request for review with respect to Jinzhou Meihou met all of the regulatory requirements set forth in 19 CFR 351.214(b) and initiated a CVD new shipper review. See Raw Flexible Magnets from the People's Republic of China: Initiation of Countervailing Duty New Shipper Review, 75 FR 22741 (April 30, 2010).¹

¹ The Department also initiated an antidumping duty new shipper review with respect to Jingzhou Meihou. See Raw Flexible Magnets from the People's Republic of China: Initiation of Countervailing Duty New Shipper Review, 75 FR 22740 (April 30, 2010).

On May 5, 2010, we issued a CVD questionnaire to Jingzhou Meihou and received the company's response on June 21, 2010.² On June 28, 2010, Magnum Magnetics Corporation, the petitioner, submitted to the Department comments on Jinzhou Meihou's questionnaire response.³ In its submission, petitioner argued that Jingzhou Meihou is not eligible for a new shipper review on the basis that there is a familial affiliation between it and Dongguan Maghard Flexible Magnet Co., Ltd. (Dongguan Maghard), a company that exported subject merchandise to the United States during the CVD POI, which was January 1, 2006, through December 31, 2006.

² See Department's Questionnaire addressed to Frost Brown Todd, counsel to Jingzhou Meihou, regarding “New Shipper Review: Raw Flexible Magnets from the People's Republic of China (May 5, 2010) and Jingzhou Meihou's Response to CVD Questionnaire (June 21, 2010).

³ See Petitioner's “Rebuttal to Jingzhou Meihou Comments” submission (June 28, 2010).

On July 30, 2010, we issued a memorandum detailing our analysis of the affiliation issue. See Memorandum to Edward C. Yang, Acting Deputy Assistant Secretary, for Antidumping and Countervailing Duty Operations, from Melissa G. Skinner, Director, Operations, Office 3, regarding “Jingzhou Meihou's Eligibility for a New Shipper,” (July 30, 2010) (Affiliation Memorandum). We found that Jinzhou Meihou and Dongguan Maghard are affiliated companies on the basis of a familial connection. We also found that Dongguan Maghard was an exporter of subject merchandise to the United States during the CVD POI. We, therefore, determined that Jingzhou Meihou is not eligible for a CVD new shipper review. We provided interested parties the opportunity to submit comments on the Affiliation Memorandum. On August 6, 2010, Jingzhou Meihou submitted a letter to the Department expressing disagreement with the Department's decision regarding affiliation.⁴ Jinzhou Meihou, however, stated that it would respect the Department's decision that the CVD new shipper review be rescinded.⁵ Petitioner did not submit any comments on the Affiliation Memorandum to the Department. As such, we are rescinding the CVD new shipper review with respect to Jinzhou Meihou and are not calculating a company-specific rate for the company.

⁴ See Letter from Frost Brown Todd regarding “Jingzhou Meihou's Eligibility for a New Shipper Review” (August 6, 2010).

⁵ Id.

Notification Regarding Administrative Protective Order

This notice also serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a violation which is subject to sanction.

This notice is published in accordance with section 777(i) of the Act and 19 CFR 351.214(f)(3).

Dated: August 23, 2010.
Edward C. Yang,
Acting Deputy Assistant Secretary for Antidumping and Countervailing Duty Operations.

[FR Doc. 2010-21412 Filed 8-26-10; 8:45 am]

BILLING CODE 3510-DS-S